DEPARTMENT OF TRANSPORTATION

Federal Aviation Administration

[Summary Notice No. PE-2004-36]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Susan Boylon (425-227-1152), Transport Airplane Directorate (ANM-113), Federal Aviation Administration, 1601 Lind Ave., SW., Renton, WA 98055-4056; or John Linsenmeyer (202-267-5174), Office of Rulemaking (ARM-207), Federal Aviation Administration, 800 Independence Avenue, SW., Washington, DC 20591. This notice is published pursuant to 14 CFR 11.85 and 11.91.

Issued in Washington, DC, on June 3, 2004.
Donald P. Byrne,
Assistant Chief Counsel for Regulations.

Disposition of Petitions

Docket No.: FAA-2004-17909.

Petitioner: The Boeing Company.

Sections of 14 CFR Affected: 14 CFR 25.301, 25.303, 25.305, and 25.901(c).

Description of Relief Sought/Disposition: To permit type certification of the modification to the thrust reverser type design of Pratt & Whitney powered Boeing Model 777 airplanes, which is described in the background section of the exemption, without a complete showing of compliance. These requirements relate to the structural strength, deformation and failure of the thrust reverser inner wall panels during a rejected takeoff related thrust reverser deployment at high engine power.

Time-Limited Partial Grant of Exemption, 05/26/2004, Exemption No. 8329.

[FR Doc. 04-12974 Filed 6-8-04; 8:45 am]

BILLING CODE 4910-13-P